DEPARTMENT OF JUSTICE

Antitrust Division

Notice Pursuant to the National Cooperative Research and Production Act of 1993—Petroleum Environmental Research Forum Project No. 2004-06

Notice is hereby given that, on September 4, 2007, pursuant to Section 6(a) of the National Cooperative Research and Production Act of 1993, 15 U.S.C. 4301, et seq. (“the Act”), Petroleum Environmental Research Forum (“PERF”) Project No. 2004-06 has filed written notifications simultaneously with the Attorney General and the Federal Trade Commission disclosing changes in its membership. The notifications were filed for the purpose of extending the Act's provisions limiting the recovery of antitrust plaintiffs to actual damages under specified circumstances. Specifically, ExxonMobil Research and Engineering Company, Fairfax, VA; and Shell Global Solutions (US) Inc., Houston, TX have been added as parties to this venture.

No other changes have been made in either the membership or planned activity of the group research project. Membership in this group research project remains open, and PERF Project No. 2004-06 intends to file additional written notifications disclosing all change in membership.

On March 15, 2007, PERF Project No. 2004-06 filed its original notification pursuant to Section 6(a) of the Act. The Department of Justice published a notice in the Federal Register pursuant to Section 6(b) of the Act on November 7, 2007 (72 FR 62867).

Patricia A. Brink,
Deputy Director of Operations, Antitrust Division.

[FR Doc. 07-6122 Filed 12-19-07; 8:45 am]

BILLING CODE 4410-11-M